DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Observer Notification Requirements.

Form Number(s): None.

OMB Approval Number: 0648-0374.

Type of Request: Regular submission.

Burden Hours: 166.

Number of Respondents: 241.

Average Hours per Response: 5 minutes.

Needs and Uses: Under current regulations, NMFS may select for observer coverage any fishing trip by a vessel that has a permit for Atlantic Highly Migratory Species (HMS). National Marine Fisheries Service (NMFS) notifies vessel owners, in writing, when their vessels have been selected. The owners of those vessels are then required to notify NMFS before commencing any fishing trip for Atlantic HMS. Such notification allows NMFS to arrange for observer placements and assignments.

Vessels are selected randomly from a list of active vessels that have reported landings of targeted species during the previous year. Observers are placed aboard vessels to collect, among other things, information on species caught, catch disposition, gear, effort, and bycatch. The information is used in stock assessments to estimate rates of bycatch of non-targeted and protected species such as sea turtles, and to improve overall management of the fishery.

A Biological Opinion (BiOp) issued on June 1, 2004, under the Endangered Species Act, requires a minimum of eight percent observer coverage in the pelagic longline fishery. In order to better monitor incidental landings of bluefin tuna in the Gulf of Mexico, during bluefin tuna spawning season, pelagic longline vessels fishing in the gulf will be subject to 100 percent observer coverage from March 9-June 9 (41 vessels).

The shark bottom longline observer program has set a target of five percent observer coverage in the shark bottom longline fishery. A BiOp issued in October 2003 requires NMFS to maintain or increase this level of observer coverage. Additionally, upcoming management measures will establish a shark research fishery including approximately 10 vessels with 100 percent coverage throughout the year. Observer coverage for the shark gillnet fishery fluctuates from approximately 50 percent to 100 percent, depending on the time of year. Although technically not required, vessels operating in other HMS fisheries may be selected for observer coverage depending on factors including limited funding. Burden estimates include a ten percent adjustment upward from current levels to account for future expansion of observer coverage in other fisheries.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: September 18, 2008.
Gwellnar Banks,
Management Analyst, Office of the Chief Information Officer.

[FR Doc. E8-22233 Filed 9-23-08; 8:45 am]

BILLING CODE 3510-22-P